DEPARTMENT OF LABOR

Employment and Training Administration

[TA-W-74,530; TA-W-74,530A; TA-W-74,530B; et al.]

Amended Certification Regarding Eligibility To Apply for Worker Adjustment Assistance

TA-W-74,530

Hewlett Packard Company Human Resources Division Including Workers Whose Unemployment Insurance (UI) Wages Are Paid Through Electronic Data Systems (EDS) Five Cities In California: Auburn, Cupertino, Palm Springs, Palo Alto, Roseville (Two Locations) and San Diego, California Teleworkers Across California

TA-W-74,530A

Hewlett Packard Company Human Resources Division Including Workers Whose Unemployment Insurance (UI) Wages Are Paid Through Electronic Data Systems (EDS) Boise, Idaho

TA-W-74,530B

Hewlett Packard Company Human Resources Division Including Workers Whose Unemployment Insurance (UI) Wages Are Paid Through Electronic Data Systems (EDS) Ellicott City, Maryland

TA-W-74,530C

Hewlett Packard Company Human Resources Division Including Workers Whose Unemployment Insurance (UI) Wages Are Paid Through Electronic Data Systems (EDS) Canton, Michigan

TA-W-74,530D

Hewlett Packard Company Human Resources Division Including Workers Whose Unemployment Insurance (UI) Wages Are Paid Through Electronic Data Systems (EDS) Wake Forest, North Carolina

TA-W-74,530E

Hewlett Packard Company Human Resources Division Including Workers Whose Unemployment Insurance (UI) Wages Are Paid Through Electronic Data Systems (EDS) Corvallis, Oregon

TA-W-74,530F

Hewlett Packard Company Human Resources Division Including Workers Whose Unemployment Insurance (UI) Wages Are Paid Through Electronic Data Systems (EDS) Blue Bell, Pennsylvania

TA-W-74,530G

Hewlett Packard Company Human Resources Division Including Workers Whose Unemployment Insurance (UI) Wages Are Paid Through Electronic Data Systems (EDS) Three Locations in Texas Houston and Plano (Two Locations), Texas Teleworkers In Denton, Texas

TA-W-74,530H

Hewlett Packard Company Human Resources Division Including Workers Whose Unemployment Insurance (UI) Wages Are Paid Through Electronic Data Systems (EDS) Herndon, Virginia

TA-W-74,530I

Hewlett Packard Company Human Resources Division Including Workers Whose Unemployment Insurance (UI) Wages Are Paid Through Electronic Data Systems (EDS) Vancouver, Washington

TA-W-74,530J

Hewlett Packard Company Human Resources Division Including Workers Whose Unemployment Insurance (UI) Wages Are Paid Through Electronic Data Systems (EDS) Two Locations In Massachusetts Marlboro and Andover (Two Locations), Massachusetts Teleworkers Across Massachusetts

TA-W-74,530K

Hewlett Packard Company Human Resources Division Including Workers Whose Unemployment Insurance (UI) Wages Are Paid Through Electronic Data Systems (EDS) Colorado Springs, Colorado Teleworkers Across Colorado

TA-W-74,530L

Hewlett Packard Company Human Resources Division Including Workers Whose Unemployment Insurance (UI) Wages Are Paid Through Electronic Data Systems (EDS) Frankfort, Kentucky Teleworkers Across Kentucky

TA-W-74,530M

Hewlett Packard Company Human Resources Division Including Workers Whose Unemployment Insurance (UI) Wages Are Paid Through Electronic Data Systems (EDS) Las Vegas, Nevada Teleworkers Across Nevada

TA-W-74,530N

Hewlett Packard Company Human Resources Division Including Workers Whose Unemployment Insurance (UI) Wages Are Paid Through Electronic Data Systems (EDS) Miami, Florida Teleworkers Across Florida

TA-W-74,530O

Hewlett Packard Company Human Resources Division Including Workers Whose Unemployment Insurance (UI) Wages Are Paid Through Electronic Data Systems (EDS) Edison, New Jersey Teleworkers Across New Jersey

TA-W-74,530P

Hewlett Packard Company Human Resources Division Including Workers Whose Unemployment Insurance (UI) Wages Are Paid Through Electronic Data Systems (EDS) Oklahoma City, Oklahoma Teleworkers Across Oklahoma

TA-W-74,530Q

Hewlett Packard Company Human Resources Division Including Workers Whose Unemployment Insurance (UI) Wages Are Paid Through Electronic Data Systems (EDS) Blue Ash, Ohio Teleworkers Across Ohio

TA-W-74,530R

Hewlett Packard Company Human Resources Division Including Workers Whose Unemployment Insurance (UI) Wages Are Paid Through Electronic Data Systems (EDS) Naperville, Illinois Teleworkers Across Illinois

In accordance with Section 223 of the Trade Act of 1974, as amended (“Act”), 19 U.S.C. 2273, the Department of Labor issued a Certification of Eligibility to Apply for Worker Adjustment Assistance on September 3, 2010, applicable to workers of Hewlett Packard Company, Human Resources Division, Five Cities in California: Auburn, Cupertino, Palm Springs, Palo Alto and Roseville (Two Locations), California (TA-W-74,530), Boise, Idaho, (TA-W-74,530A), Ellicott City, Maryland (TA-W-74,530B), Canton, Michigan (TA-W-74,530C), Wake Forest, North Carolina (TA-W-74,530D), Corvallis, Oregon (TA-W-74,530E), Blue Bell, Pennsylvania (TA-W-74,530F), Three Locations in Texas: Houston and Plano (Two Locations), Texas, Teleworkers in Denton, Texas (TA-W-74,530G), Herndon, Virginia (TA-W-74,530H), and Vancouver, Washington (TA-W-74,530I). The notice was published in the Federal Register on September 21, 2010 (75 FR 57516).

At the request of the State agency, the Department reviewed the certification for workers of the subject firm. The workers provide human resource services.

New findings show that worker separations also occurred during the relevant time period at the following locations across ten states of Hewlett Packard Company, Human Resources Division: Marlboro and Andover, Massachusetts, Colorado Springs, Colorado, Frankfort, Kentucky, Las Vegas, Nevada, Miami, Florida, Edison, New Jersey, Oklahoma City, Oklahoma, Blue Ash, Ohio, Naperville, Illinois, and San Diego, California. Each location operates in conjunction with each other; all were part of the overall servicing operation and were impacted by the shift in human resource services to Panama.

Accordingly, the Department is amending this certification to include workers at the above mentioned locations of Hewlett Packard Company, Human Resources Division.

The intent of the Department's certification is to include all workers of the subject firm who were adversely affected by a shift in human resource services to Panama.

The amended notice applicable to TA-W-74,530 is hereby issued as follows:

All workers at the following locations across ten states of Hewlett Packard Company, Human Resources Division, including workers whose unemployment insurance (UI) wages are paid through Electronic Data Systems (EDS): Auburn, Cupertino, Palm Springs, Palo Alto, Roseville (two locations), and San Diego, California and teleworkers across California (TA-W-74,530); Boise, Idaho (TA-W-74,530A); Ellicott City, Maryland (TA-W-74,530B); Canton, Michigan (TA-W-74,530C); Wake Forest, North Carolina (TA-W-74,530D); Corvallis, Oregon (TA-W-74,530E); Blue Bell, Pennsylvania (TA-W-74,530F); Houston and Plano (two locations), Texas, and teleworkers in Denton, Texas (TA-W-74,530G); Herndon, Virginia (TA-W-74,530H); and Vancouver, Washington (TA-W-74,530I); Marlboro and Andover, (two locations), Massachusetts and teleworkers across Massachusetts (TA-W-74,530J; Colorado Springs, Colorado and teleworkers across Colorado (TA-W-74,530K); Frankfort, Kentucky and teleworkers across Kentucky (TA-W-74,530L); Las Vegas, Nevada and teleworkers across Nevada (TA-W-74,530M); Miami, Florida and teleworkers across Florida (TA-W-74,530N); Edison, New Jersey and teleworkers across New Jersey (TA-W-74,530O); Oklahoma City, Oklahoma and teleworkers across Oklahoma (TA-W-74,530P); Blue Ash, Ohio and teleworkers across Ohio (TA-W-74,539Q); Naperville, Illinois and teleworkers across Illinois (TA-W-74,530R), who became totally or partially separated from employment on or after August 4, 2009, through September 3, 2012, and all workers in the group threatened with total or partial separation from employment on date of certification through two years from the date of certification, are eligible to apply for adjustment assistance under Chapter 2 of Title II of the Trade Act of 1974, as amended.

Signed at Washington, DC, this 17th day of May 2011.
Elliott S. Kushner
Certifying Officer, Division of Trade Adjustment Assistance.

[FR Doc. 2011-12775 Filed 5-24-11; 8:45 am]

BILLING CODE 4510-FN-P